DEPARTMENT OF THE INTERIOR

Bureau of Land Management

[UT-912-03-1150-PG-24-1A]

Notice of Resource Advisory Council Meeting

AGENCY: Bureau of Land Management, Department of Interior.

ACTION: Notice of Utah Resource Advisory Council (RAC) meeting; additional details.

SUMMARY: In accordance with the Federal Land Policy and Management Act (FLPMA) and the Federal Advisory Committee Act of 1972 (FACA), the U.S. Department of the Interior, Bureau of Land Management (BLM) Utah Resource Advisory Council (RAC) will meet as indicated below.

DATES: A meeting is scheduled for September 9-10, 2003, at the Airport Hilton Hotel, Salon A conference room, 5151 Wiley Post Way, Salt Lake City, Utah. The meeting will begin at 8 a.m. on September 9 and conclude at 11 a.m. on September 10.

FOR FURTHER INFORMATION CONTACT: Contact Sherry Foot, Special Programs Coordinator, Utah State Office, Bureau of Land Management, 324 South State Street, Salt Lake City, Utah, 84111; phone (801) 539-4195.

SUPPLEMENTARY INFORMATION: A notice was initially published (vol. 68, page number 122, dated 6/25/03) which addressed a follow-up meeting to be scheduled on September 9-10, 2003. This notice is issued to announce additional details of the meeting. A working meeting is scheduled for September 9 to discuss the reports from the raptor, OHV, and San Rafael subgroups; an overview of shrub die-off and sage grouse national/state strategies; and a presentation, along with a discussion, on the Sustainable Working Landscapes (SWL) Initiative.

On September 10, 2003, beginning at 8 a.m. until 10 a.m, the Council encourages and is providing an opportunity for public comments on the SWL initiative. If you are unable to attend the meeting, written comments can be sent to the Bureau of Land Management, c/o Larry Lichthardt, P.O. Box 45144, Salt Lake City, Utah, 84145-0155.

There will also be a public comment period from 10 a.m.-11 a.m. for members of the public to address the Council on non-SWL related issues.

All meetings are open to the public; however, transportation, lodging, and meals are the responsibility of the participating public.

Dated: August 18, 2003.
Sally Wisely,
State Director.

[FR Doc. 03-21796 Filed 8-25-03; 8:45 am]

BILLING CODE 4310-$$-M